Title 3—

The President

Memorandum of May 31, 2013

Delegation of Functions Under Subsection 804(h)(2)(A) of the Foreign Narcotics Kingpin Designation Act

Memorandum for the Secretary of the Treasury

By the authority vested in me as President by the Constitution and the laws of the United States of America, including section 301 of title 3, United States Code, I hereby delegate the functions conferred upon the President by section 804(h)(2)(A) of the Foreign Narcotics Kingpin Designation Act (21 U.S.C. 1903(h)(2)(A)), to the Secretary of the Treasury.

You are authorized and directed to publish this memorandum in the Federal Register.

THE WHITE HOUSE,

Washington, May 31, 2013

[FR Doc. 2013-13512

Filed 6-4-13; 11:15 am]

Billing code 4811-33